ENVIRONMENTAL PROTECTION AGENCY

[FRL-9425-8]

Meeting of the National Drinking Water Advisory Council; Notice of Public Meeting

AGENCY: Environmental Protection Agency.

ACTION: Notice.

SUMMARY: Under Section 10(a)(2) of Public Law 92-423, “The Federal Advisory Committee Act,” notice is hereby given of a meeting of the National Drinking Water Advisory Council (NDWAC), established under the Safe Drinking Water Act, as amended (42 U.S.C. 300f et seq.). The Council will consider various issues associated with drinking water protection and public water systems including nutrient pollution and impacts to drinking water supplies. The Council will also receive updates about several on-going drinking water program activities including rulemakings related to the Total Coliform Rule and the Lead and Copper Rule.

DATES: The Council meeting will be held on July 21, 2011, from 8:30 a.m. to 5 p.m., and July 22, 2010, from 8:30 a.m. to 2 p.m., Pacific Time.

ADDRESSES: The meeting will be held at the U.S. Environmental Protection Agency Region 9 Office, 75 Hawthorne Street, San Francisco, CA 94105.

FOR FURTHER INFORMATION CONTACT: Members of the public who would like to attend the meeting, present an oral statement, or submit a written statement, should contact Suzanne Kelly, by e-mail, Kelly.Suzanne@epa.gov, by phone, 202-564-3887, or by regular mail at the U.S. Environmental Protection Agency, Office of Ground Water and Drinking Water (MC 4601M), 1200 Pennsylvania Avenue, NW., Washington, DC 20460.

SUPPLEMENTARY INFORMATION: The meeting is open to the public. The Council encourages the public's input and will allocate one hour (3:30 p.m.-4:30 p.m.) on July 21, 2011, for this purpose. Oral statements will be limited to five minutes. It is preferred that only one person present the statement on behalf of a group or organization. To ensure adequate time for public involvement, individuals or organizations interested in presenting an oral statement should notify Suzanne Kelly by telephone at 202-564-3887 no later than July 14, 2011. Any person who wishes to file a written statement can do so before or after a Council meeting. Written statements received by July 11, 2011 will be distributed to all members of the Council before any final discussion or vote is completed. Any statements received July 12, 2011, or after the meeting will become part of the permanent meeting file and will be forwarded to the Council members for their information. Members of the public will have to show photo identification to enter the building. Attendees are encouraged to arrive at least 15 minutes prior to the start of the meeting to allow sufficient time for security screening.

Special Accommodations

For information on access or services for individuals with disabilities, please contact Suzanne Kelly at 202-564-3887 or by e-mail at Kelly.Suzanne@epa.gov. To request accommodation of a disability, please contact Suzanne Kelly, preferably, at least 10 days prior to the meeting to give EPA as much time as possible to process your request.

Dated: June 23, 2011.
Ronald W. Bergman,
Acting Director, Office of Ground Water and Drinking Water.

[FR Doc. 2011-16380 Filed 6-28-11; 8:45 am]

BILLING CODE 6560-50-P